DEPARTMENT OF THE INTERIOR

National Park Service

National Register of Historic Places; Notification of Pending Nominations

Nominations for the following properties being considered for listing in the National Register were received by the National Park Service before March 9, 2002. Pursuant to section 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW, Suite 400, Washington DC 20002; or by fax, 202-343-1836. Written or faxed comments should be submitted by April 16, 2002.

Carol D. Shull,
Keeper of the National Register Of Historic Places.

CALIFORNIA

San Francisco County

Fairmont Hotel, 950 Mason St., San Francisco, 02000373

San Francisco Fire Department Engine Co. Number 2, 460 Bush St., San Francisco, 02000371

Tehama County

State Theatre, 333 Oak St., Red Bluff, 02000372

IOWA

Dallas County

Adel Bridge, (Highway Bridges of Iowa MPS) River St., Adel, 02000374

Lee County

Weber, Alois and Annie, House, 802 Orleans Ave., Keokuk, 02000375

MASSACHUSETTS

Berkshire County

Housatonic Congregational Church, 1089 Main St., Great Barrington, 02000377

Essex County

Amesbury Friends Meeting House, 120 Friend St., Amesbury, 02000376

Middlesex County

Groton Leatherboard Company, 6 W. Main St., Groton, 02000378

MISSOURI

Greene County

Oberman, D.M., Manufacturing Co. Building, 600 N. Boonville Ave., Springfield, 02000379

PENNSYLVANIA

Chester County

Barclay House, 535 and 539 N. Church St., West Chester, 02000380

WISCONSIN

Fond du Lac County

Kendall—Blankenburg House, 14 Sixth St., Fond du Lac, 02000381

Tallmadge, Montgomery and Nancy, House, 225 Sheboygan St., Fond du Lac, 02000382

A request for a move has been made for the following resource

SOUTH CAROLINA

Horry County

Quattlebaum, C.P., Office (Conway MRA) 903 Third Ave, Conway, 86002235.

[FR Doc. 02-7818 Filed 3-29-02; 8:45 am]

BILLING CODE 4310-70-P